DEPARTMENT OF TRANSPORTATION

Federal Aviation Administration

14 CFR Part 39

[Docket No. FAA-2020-0793; Project Identifier MCAI-2020-00976-R; Amendment 39-21243; AD 2020-19-02]

RIN 2120-AA64

Airworthiness Directives; Airbus Helicopters

AGENCY: Federal Aviation Administration (FAA), DOT.

ACTION: Final rule; request for comments.

SUMMARY: The FAA is superseding Airworthiness Directive (AD) 2000-22-19 for Eurocopter France (now Airbus Helicopters) Model SA330F, G, and J helicopters. AD 2000-22-19 required repetitively inspecting certain tail rotor (T/R) blades for skin debonding and a crack. Since the FAA issued AD 2000-22-19, the inspection procedures have been revised. Additionally, the FAA is adding an affected part-numbered T/R blade and the FAA-validation for Model SA330F and G helicopters has been cancelled. This new AD revises the applicability, requires repetitively inspecting affected T/R blades with the new inspection procedures, and depending on the inspection results, repairing or replacing the T/R blade. This new AD also prohibits installing an affected T/R blade unless it has passed the inspections. The actions of this AD are intended to address an unsafe condition on these products.

DATES: This AD becomes effective October 7, 2020.

The Director of the Federal Register approved the incorporation by reference of a certain document listed in this AD as of October 7, 2020.

The FAA must receive comments on this AD by November 6, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2020-0793; or in person at Docket Operations between 9 a.m. and 5 p.m., Monday through Friday, except Federal holidays. The AD docket contains this AD, the European Aviation Safety Agency (EASA) (now European Union Aviation Safety Agency) AD, any service information that is incorporated by reference, any comments received, and other information. The street address for Docket Operations is listed above. Comments will be available in the AD docket shortly after receipt.

For service information identified in this final rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177. It is also available on the internet at https://www.regulations.gov by searching for and locating Docket No. FAA-2020-0793.

FOR FURTHER INFORMATION CONTACT: Matt Fuller, AD Program Manager, Continued Operational Safety Branch, Airworthiness Products Section, General Aviation and Rotorcraft Unit, FAA, 10101 Hillwood Pkwy., Fort Worth, TX 76177; telephone 817-222-5110; email matthew.fuller@faa.gov.

SUPPLEMENTARY INFORMATION:

Comments Invited

This AD is a final rule that involves requirements affecting flight safety, and the FAA did not provide you with notice and an opportunity to provide your comments prior to it becoming effective. However, the FAA invites you to participate in this rulemaking by submitting written comments, data, or views. The most helpful comments reference a specific portion of the AD, explain the reason for any recommended change, and include supporting data. To ensure the docket does not contain duplicate comments, commenters should send only one copy of written comments, or if comments are filed electronically, commenters should submit them only one time.

Except for Confidential Business Information (CBI) as described in the following paragraph, and other information as described in 14 CFR 11.35, the FAA will file in the docket all comments received, as well as a report summarizing each substantive public contact with FAA personnel concerning this rulemaking during the comment period. The FAA will consider all the comments received and may conduct additional rulemaking based on those comments.

Confidential Business Information

Confidential Business Information (CBI) is commercial or financial information that is both customarily and actually treated as private by its owner. Under the Freedom of Information Act (FOIA) (5 U.S.C. 552), CBI is exempt from public disclosure. If your comments responsive to this final rule contain commercial or financial information that is customarily treated as private, that you actually treat as private, and that is relevant or responsive to this final rule, it is important that you clearly designate the submitted comments as CBI. Please mark each page of your submission containing CBI as “PROPIN.” The FAA will treat such marked submissions as confidential under the FOIA, and they will not be placed in the public docket of this final rule. Submissions containing CBI should be sent to Matt Fuller, AD Program Manager, Continued Operational Safety Branch, Airworthiness Products Section, General Aviation and Rotorcraft Unit, FAA, 10101 Hillwood Pkwy., Fort Worth, TX 76177; telephone 817-222-5110; email matthew.fuller@faa.gov. Any commentary that the FAA receives which is not specifically designated as CBI will be placed in the public docket for this rulemaking.

Discussion

The FAA issued AD 2000-22-19, Amendment 39-11967 (65 FR 68071, November 14, 2000) (“AD 2000-22-19”), for Eurocopter France (now Airbus Helicopters) Model SA330F, G, and J helicopters with a T/R blade part number (P/N) 330A12-0000-(all dash numbers), 330A12-0000-(all dash numbers), or 330A12-0006-(all dash numbers), installed.

AD 2000-22-19 required, within a compliance time interval based on whether a de-icing system was installed, repetitively inspecting each T/R blade for skin debonding and eddy current inspecting for a crack. The FAA issued AD 2000-22-19 to prevent fatigue cracking of a T/R blade, failure of a T/R blade, and subsequent loss of control of the helicopter.

Actions Since AD 2000-22-19 Was Issued

Since the FAA issued AD 2000-22-19, EASA, which is the Technical Agent for the Member States of the European Union, issued EASA AD No. 2016-0059-E, dated March 22, 2016 (EASA AD 2016-0059-E), to correct an unsafe condition for Airbus Helicopters (formerly Eurocopter, Eurocopter France, Aerospatiale) Model SA 330 J helicopters. EASA AD 2016-0059-E retains the requirements of Direction Générale de l'Aviation Civile (DGAC) France AD 87-032-052(B)R3, dated January 23, 1991, which it supersedes, and also mandates improved service instructions.

Airbus Helicopters issued the improved service instructions in Emergency Alert Service Bulletin No. 05.101, Revision 0, dated March 21, 2016, to extend the eddy current inspection area and specify new tooling to inspect the extended area.

Also, since the FAA issued AD 2000-22-19, it was identified that AD 2000-22-19 inadvertently listed T/R blade P/N 330A12-0000-(all dash numbers) twice in its applicability and omitted T/R blade P/N 330A12-0005-(all dash numbers). This final rule removes T/R blade P/N 330A12-0000-(all dash numbers) altogether from the applicability because these part-numbered T/R blades have been retired from the fleet and expands the applicability by adding helicopters with T/R blade P/N 330A12-0005-(all dash numbers) installed.

Additionally, at the request of Airbus Helicopters, Model SA330F and G helicopters have been removed from the FAA Type Certificate Data Sheet (TCDS). According to Airbus Helicopters, none of these aircraft models are in existence. EASA, the state of design, has also removed these models from its TCDS. As a result, the FAA is removing these models from the applicability.

FAA's Determination

These helicopters have been approved by EASA and are approved for operation in the United States. Pursuant to the FAA's bilateral agreement with the European Union, EASA has notified the FAA about the unsafe condition described in its AD. The FAA is issuing this AD after evaluating all of the information provided by EASA and determining the unsafe condition exists and is likely to exist or develop on other helicopters of the same type design.

Related Service Information Under 1 CFR Part 51

Airbus Helicopters has issued Emergency Alert Service Bulletin No. 05.101, Revision 0, dated March 21, 2016, for Model SA330J helicopters with certain T/R blades with and without a de-icing system installed. This service information specifies procedures for a visual and in-depth inspection of the T/R blades for skin debonding and an eddy current inspection of the T/R blades for a crack using various crack detectors.

This service information is reasonably available because the interested parties have access to it through their normal course of business or by the means identified in the ADDRESSES section.

AD Requirements

This AD requires within 30 hours time-in-service (TIS) after the effective date of this AD or within 30 hours TIS after last inspecting the T/R blades as required by paragraph (a) of AD 2000-22-19, whichever occurs first, and thereafter at intervals not to exceed 15 hours TIS for blades with de-icing systems installed or 30 hours TIS for blades without de-icing systems installed:

• Accomplishing a visual and in-depth inspection of each T/R blade for debonding. If there is debonding within allowable limits, this AD requires repairing or replacing the T/R blade before further flight. If there is debonding that exceeds allowable limits, this AD requires replacing the T/R blade before further flight.

• Eddy current inspecting each blade for a crack. If there is a crack, this AD requires replacing the T/R blade before further flight.

This AD also prohibits installing an affected T/R blade on any helicopter unless it passes the inspections required by this AD.

Differences Between This AD and the EASA AD

The EASA AD requires returning a T/R blade with debonding that exceeds allowable limits or a crack to Airbus Helicopters, whereas this AD requires replacing the T/R blade instead.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 15 helicopters of U.S. Registry. Labor rates are estimated at $85 per work-hour. Based on these numbers, the FAA estimates that operators may incur the following costs in order to comply with this AD.

Inspecting the T/R blades for debonding takes about 0.75 work-hour for an estimated cost of $64 per helicopter and $960 for the U.S. fleet, per inspection cycle. Eddy current inspecting the T/R blades for a crack takes about 1.75 work-hours for an estimated cost of $149 per helicopter and $2,235 for the U.S. fleet, per inspection cycle.

If required, replacing a T/R blade takes about 4 work-hours and parts cost about $19,000, for an estimated cost of $19,340.

FAA's Justification and Determination of the Effective Date

Section 553(b)(3)(B) of the Administrative Procedure Act (5 U.S.C.) authorizes agencies to dispense with notice and comment procedures for rules when the agency, for “good cause” finds that those procedures are “impracticable, unnecessary, or contrary to the public interest.” Under this section, an agency, upon finding good cause, may issue a final rule without seeking comment prior to the rulemaking.

An unsafe condition exists that requires the immediate adoption of this AD without providing an opportunity for public comments prior to adoption. The FAA has found that the risk to the flying public justifies waiving notice and comment prior to adoption of this rule because fatigue cracking in a T/R blade could lead to failure of a T/R blade and subsequent loss of control of the helicopter. This type of fatigue cracking in a T/R blade could cause a pilot to perform an emergency landing. Because these helicopters primarily conduct operations over water or forested mountains, the FAA determined the corrective action must be completed within 30 hours TIS, a time period of up to approximately two months based on the average flight-hour utilization rates of these helicopters. Therefore, notice and opportunity for prior public comment are impracticable and contrary to public interest pursuant to 5 U.S.C. 553(b)(3)(B). In addition, for the reasons stated above, the FAA finds that good cause exists pursuant to 5 U.S.C. 553(d) for making this amendment effective in less than 30 days.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866, and

2. Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2000-22-19, Amendment 39-11967 (65 FR 68071, November 14, 2000); and

b. Adding the following new AD:

2020-19-02 Airbus Helicopters: Amendment 39-21243; Docket No. FAA-2020-0793; Project Identifier MCAI-2020-00976-R.

(a) Applicability

This AD applies to Airbus Helicopters (previously Eurocopter France) Model SA330J helicopters, certificated in any category, with a tail rotor (T/R) blade part number 330A12-0005-(all dash numbers) or 330A12-0006-(all dash numbers) installed.

(b) Unsafe Condition

This AD defines the unsafe condition as fatigue cracking of a T/R blade. This condition could result in failure of a T/R blade and subsequent loss of control of the helicopter.

(c) Affected ADs

This AD replaces AD 2000-22-19, Amendment 39-11967 (65 FR 68071, November 14, 2000) (“AD 2000-22-19”).

(d) Effective Date

This AD becomes effective October 7, 2020.

(e) Compliance

You are responsible for performing each action required by this AD within the specified compliance time unless it has already been accomplished prior to that time.

(f) Required Actions

(1) Within 30 hours time-in-service (TIS) after the effective date of this AD or within 30 hours TIS after last inspecting the T/R blades as required by paragraph (a) of AD 2000-22-19, whichever occurs first, and thereafter at intervals not to exceed 15 hours TIS for T/R blades with deicing systems installed or 30 hours TIS for T/R blades without deicing systems installed:

(i) Inspect each T/R blade for debonding by following the visual and in-depth inspection procedures in the Accomplishment Instructions, paragraph 3.B.2., of Airbus Helicopters Emergency Alert Service Bulletin No. 05.101, Revision 0, dated March 21, 2016 (EASB 05.101). If there is debonding within allowable limits, before further flight, repair or replace the T/R blade. If there is debonding that exceeds allowable limits, before further flight, replace the T/R blade.

(ii) Eddy current inspect each T/R blade for a crack by following the Accomplishment Instructions, paragraph 3.B.3.a. of EASB 05.101, then either paragraph 3.B.3.b.1. or 3.B.3.b.2. of EASB 05.101 depending on your crack detector, and paragraph 3.B.3.c. of EASB 05.101 except the “if there are no cracks” and “if there are one or several cracks” steps. Instead of the “if there are no cracks” and “if there are one or several cracks” steps, if there is a crack, before further flight, replace the T/R blade.

(2) As of the effective date of this AD, do not install a T/R blade identified in paragraph (a) of this AD on any helicopter unless the actions of paragraph (f)(1) of this AD have been accomplished.

(g) Alternative Methods of Compliance (AMOCs)

(1) The Manager, Rotorcraft Standards Branch, FAA, may approve AMOCs for this AD. Send your proposal to: Matt Fuller, AD Program Manager, Continued Operational Safety Branch, Airworthiness Products Section, General Aviation and Rotorcraft Unit, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(h) Additional Information

The subject of this AD is addressed in European Aviation Safety Agency (EASA) (now European Union Aviation Safety Agency) No. 2016-0059-E, dated March 22, 2016. You may view the EASA AD on the internet at https://www.regulations.gov by searching for and locating it in Docket No. FAA-2020-0793.

(i) Subject

Joint Aircraft Service Component (JASC) Code: 6410, Tail Rotor Blades.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Airbus Helicopters Emergency Alert Service Bulletin No. 05.101, Revision 0, dated March 21, 2016.

(ii) [Reserved]

(3) For service information identified in this AD, contact Airbus Helicopters, 2701 N Forum Drive, Grand Prairie, TX 75052; telephone 972-641-0000 or 800-232-0323; fax 972-641-3775; or at https://www.airbus.com/helicopters/services/technical-support.html.

(4) You may view this service information at the FAA, Office of the Regional Counsel, Southwest Region, 10101 Hillwood Pkwy., Room 6N-321, Fort Worth, TX 76177. For information on the availability of this material at the FAA, call 817-222-5110.

(5) You may view this service information that is incorporated by reference at the National Archives and Records Administration (NARA). For information on the availability of this material at NARA, email fedreg.legal@nara.gov, or go to: https://www.archives.gov/federal-register/cfr/ibr-locations.html.

Issued on August 31, 2020.
Gaetano A. Sciortino,
Deputy Director for Strategic Initiatives, Compliance & Airworthiness Division, Aircraft Certification Service.

[FR Doc. 2020-20751 Filed 9-21-20; 8:45 am]

BILLING CODE P